DEPARTMENT OF COMMERCE

Economic Development Administration

Notice of Petitions by Producing Firms for Determination of Eligibility To Apply for Trade Adjustment Assistance

AGENCY: Economic Development Administration (EDA).

ACTION: To give all interested parties an opportunity to comment.

Petitions have been accepted for filing on the dates indicated from the firms listed below.

List of Petition Action By Trade Adjustment Assistance for Period May 21, 2005-June 17, 2005
Firm name | Address | Date petition accepted | Product
Best Fish Company, LLC dba Crab Fresh | 2130 Harvor Avenue S.W. Seattle, WA 98126 | 01-Jun-05 | Crabs.
Freedom Tool and Mold, Inc | 57707 N. Northwest Highway, Chicago, IL 60646 | 07-Jun-05 | Molds, machined of metal for plastic injection molding.
Comfort Designs, Inc | 1167 North Washington Street, Wilkes Barre, PA 18705 | 08-Jun-05 | Upholstered furniture.
Bangor Electronics Co., Inc | 100 Industrial Park Drive, Bangor, MI 49013 | 13-Jun-05 | Permanent magnets of metal.
Bancroft Cap, Co | 1122 South 2nd Street, Cabot, AR 72023 | 13-Jun-05 | Hats and headgear.
Compacting Tooling, Inc | 403 Wide Drive, McKeesport, PA 15135 | 13-Jun-05 | Parts for automotive and fire arms industries.
Fall River Shirt Company | 135 Alden Street, Fall River, MA 02732 | 13-Jun-05 | Dress and casual shirts for men and women.
Ferriot, Inc | 1000 Arlington Circle, Akron, Oh 44306 | 13-Jun-05 | Injection molds, and plastic products from molds.
Sauceda's Precision Grinding, Inc | 351 N. Milam, San Benito, TX 78586 | 13-Jun-05 | Plates, sticks, and tips for tools, unmounted.
Stored Energy Systems | 1840 Industrial Circle, Longmont, CO 80501 | 13-Jun-05 | Dual purpose starter-generators for internal combustion engines.
Wilde Tool Company, Inc | 13th St. & Potawatomie Street, Hiawatha, KS 66434 | 13-Jun-05 | Pliers, pry bars and punches.
Advanced Cable Ties, Inc | 245 Suffolk Lane, Gardner, MA 01440 | 16-Jun-05 | Cable ties.
InterConnect Wiring, L.P | 5024 West Vickery Blvd., Fort Worth, TX 76107 | 16-Jun-05 | Electrical wiring harnesses.
Jensen Design, Inc | 933 S. West Street, Wichita, KS 67213 | 17-Jun-05 | Residential metal furniture and fixtures.
National Aluminum Brass Foundry, Inc | 1304 West Elm Street, Independence, MO 64050 | 17-Jun-05 | Castings and battery terminals.

The petitions were submitted pursuant to section 251 of the Trade Act of 1974 (19 U.S.C. 2341). Consequently, the United States Department of Commerce has initiated separate investigations to determine whether increased imports into the United States of articles like or directly competitive with those produced by each firm contributed importantly to total or partial separation of the firm's workers, or threat thereof, and to a decrease in sales or production of each petitioning firm. Any party having a substantial interest in the proceedings may request a public hearing on the matter. A request for a hearing must be received by Trade Adjustment Assistance, Room 7812, Economic Development Administration, U.S. Department of Commerce, Washington, DC 20230, no later than the close of business of the tenth calendar day following the publication of this notice. The Catalog of Federal Domestic Assistance official program number and title of the program under which these petitions are submitted is 11.313, Trade Adjustment Assistance.

Dated: June 23, 2005.
Anthony J. Meyer,
Senior Program Analyst, Office of Strategic Initiatives.

[FR Doc. 05-12894 Filed 6-29-05; 8:45 am]

BILLING CODE 3510-24-P